DEPARTMENT OF DEFENSE

Office of the Secretary

Notice of Federal Advisory Committee Meeting—Defense Advisory Committee on Investigation, Prosecution, and Defense of Sexual Assault in the Armed Forces

AGENCY: General Counsel of the Department of Defense, Department of Defense (DoD).

ACTION: Notice of Federal advisory committee meeting.

SUMMARY: The DoD is publishing this notice to announce that the following Federal Advisory Committee meeting of the Defense Advisory Committee on Investigation, Prosecution, and Defense of Sexual Assault in the Armed Forces (DAC-IPAD) will take place.

DATES: Tuesday, March 12, 2024—Open to the public from 9:25 a.m. to 4:45 p.m. Mountain Standard Time (MST) and Wednesday, March 13, 2024—Open to the public from 9:15 a.m. to 12:30 p.m. MST.

ADDRESSES: United States Air Force Academy, Blue & Silver Club, Falcon Stadium, 4900 Stadium Blvd., Air Force Academy, CO 80840. The meeting can be accessed virtually via the following dial-in number and links: Dial-in: (669) 254-5252/(646) 828-7666, Meeting ID: 161 7811 7058 Passcode: DACIPAD. Link: https://www.zoomgov.com/j/16178117058?pwd=RTRLYi9NOEF2STZYeXd0TkJING00Zz09. Meeting ID: 161 7811 7058 Passcode: DACIPAD.

FOR FURTHER INFORMATION CONTACT: Dwight Sullivan, 703-695-1055 (Voice), dwight.h.sullivan.civ@mail.mil (Email). Mailing address is DACIPAD, One Liberty Center, 875 N Randolph Street, Suite 150, Arlington, Virginia 22203. Website: http://dacipad.whs.mil/. The most up-to-date changes to the meeting agenda can be found on the website.

SUPPLEMENTARY INFORMATION: This meeting is being held under the provisions of chapter 10 of title 5 United States Code (U.S.C.) (formerly the Federal Advisory Committee Act (FACA) of 1972 (5 U.S.C., App.)), the Government in the Sunshine Act of 1976 (5 U.S.C. 552b, as amended), and 41 CFR 102-3.140 and 102-3.50.

Purpose of the Meeting: In section 546 of the National Defense Authorization Act (NDAA) for Fiscal Year 2015 (FY 2015) (Pub. L. 113-291), as modified by section 537 of the NDAA FY 2016 (Pub. L. 114-92), Congress tasked the DAC-IPAD to advise the Secretary of Defense on the investigation, prosecution, and defense of allegations of rape, sexual assault, and other sexual misconduct involving members of the Armed Forces. This will be the thirty-fourth public meeting held by the DAC-IPAD. On Day 1, the Committee will receive testimony from military justice practitioners local to installations near Colorado Springs, Colorado, on Military Rule of Evidence 513 litigation; Article 6b victims' rights litigation; judicial rulings on evidence in military sexual offense cases; and investigator access to digital evidence. On Day 2, the Committee will deliberate on the Day 1 panel sessions; will receive testimony from civilian practitioners on Service Member misconduct and comparative perspectives on evidentiary issues in civilian sexual assault trials; and will receive updates from the Policy Subcommittee, the Case Review Subcommittee, and the Special Projects Subcommittee. Prior to adjournment, the Committee will hear comments from the public.

Agenda: Day 1: 9:25 a.m.-9:30 a.m. Welcome and Introduction to Public Meeting; 9:30 a.m.-11:30 a.m. Special Victims' Counsel; 11:30 a.m.-1:00 p.m. Working Lunch; 1:00 p.m.-2:45 p.m. Senior Defense Counsel; 2:45 p.m.-3:00 p.m. Break; 3:00 p.m.-4:45 p.m. Special Trial Counsel; 4:45 p.m. Public Meeting Day 1 Adjourned. Day 2: 9:15 a.m.-9:20 a.m. Welcome and Overview of Day 2; 9:20 a.m.-10:00 a.m. DAC-IPAD Deliberations on Day 1 panel sessions; 10:00 a.m.-11:00 a.m. El Paso County, Colorado, practitioners and victim's services; 11:00 a.m.-11:10 a.m. Policy subcommittee Update; 11:10 a.m.-11:20 a.m. Case Review Subcommittee Update; 11:20 a.m.-11:30 a.m. Special Projects Subcommittee Update; 11:30 a.m.-12:00 p.m. Public Comment; 12:00 p.m.-12:30 p.m. Meeting Wrap-Up; 12:30 p.m. Public Meeting Day 2 Adjourned.

Meeting Accessibility: Pursuant to 41 CFR 102-3.140 and 5 U.S.C. 1009(a)(1), the public or interested organizations may submit written comments to the DAC-IPAD about its mission and topics pertaining to this public meeting. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 12:00 p.m.-12:30 p.m. MST on March 13, 2024.

Dated: February 7, 2024.
Aaron T. Siegel,
Alternate OSD Federal Register Liaison Officer, Department of Defense.

[FR Doc. 2024-02890 Filed 2-12-24; 8:45 am]

BILLING CODE 6001-FR-P